ENVIRONMENTAL PROTECTION AGENCY

40 CFR Part 52

[AL-056-200204; FRL-7098-7]

Approval and Promulgation of Implementation Plans: Alabama: Attainment Demonstration of the Birmingham 1-hour Ozone Nonattainment Area

AGENCY: Environmental Protection Agency (EPA).

ACTION: Final rule.

SUMMARY: The EPA is approving additions to Alabama's Air Quality Regulations and the ground-level 1-hour ozone attainment demonstration State Implementation Plan (SIP) for the Birmingham nonattainment area submitted by the Alabama Department of Environmental Management (ADEM) on November 1, 2000. This rule is based on the requirements of the Clean Air Act as amended in 1990 (CAA), related to 1-hour ozone attainment demonstrations. EPA will be approving the fuel control measure in a separate Federal Register action.

EFFECTIVE DATE: This final rule is effective on December 7, 2001.

ADDRESSES: Copies of documents relative to this action are available at the following addresses for inspection during normal business hours:

Environmental Protection Agency, Region 4, Air Planning Branch, 61 Forsyth Street, SW., Atlanta, Georgia 30303-8960.

Alabama Department of Environmental Management, 400 Coliseum Boulevard, Montgomery, Alabama 36110-2059.

FOR FURTHER INFORMATION CONTACT: Sean Lakeman, Regulatory Development Section, Air Planning Branch, 61 Forsyth Street, SW., Atlanta, Georgia 30303-8960. The telephone number is (404) 562-9043. Mr. Lakeman can also be reached via electronic mail at lakeman.sean@epa.gov.

SUPPLEMENTARY INFORMATION: On November 1, 2000, the Alabama Department of Environmental Management (ADEM) submitted a revision to its ground-level 1-hour ozone attainment SIP to meet the requirements of the CAA as amended in 1990, related to 1-hour ozone attainment demonstrations. The revision consists of the adoption of the regulatory section, chapter 335-3-8 Control of Nitrogen Oxide Emissions: (.03) NOX Emissions from Electric Utility Generating Units, and the adoption of the non-regulatory ground-level 1-hour ozone attainment demonstration. On September 11, 2001, (66 FR 47145) EPA published a notice proposing to approve the November 1, 2000, ground-level 1-hour ozone attainment demonstration and the associated regulations. That notice provided for a public comment period ending on October 11, 2001. A detailed description of this attainment demonstration and EPA's rationale for approving it was provided in the proposal notice and will not be restated here. No adverse comments were received on EPA's proposal.

I. Final Action

EPA is approving the ground-level 1-hour ozone attainment demonstration for Birmingham and the associated regulations, which were submitted to EPA on November 1, 2000. EPA finds that Alabama's submittal is fully approvable.

II. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 7, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Nitrogen dioxide, Ozone, Reporting and recordkeeping requirements, Volatile organic compounds.

Dated: October 24, 2001.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart B—Alabama

2. Section 52.50 is amended by:

A. Adding in paragraph (c) a new entry in Chapter No. 335-3-8—Nitrogen Oxides Emissions for Section 335-3-8-.03; and

B. Adding a new entry at the end of the table in paragraph (e) for “Attainment Demonstration of the 1-hour NAAQS for Ozone for the Birmingham Nonattainment Area” to read as follows:

§ 52.50 Identification of plan.

* * * * *

(c) * * *

EPA Approved Alabama Regulations
State citation | Title subject | Adoption date | EPA approval date | Federal Register notice
* * * * * * *
Chapter No. 335-3-8 Nitrogen Oxides Emissions
* * * * * * *
Section 335-3-8-.03 | NOX Emissions from Electric Utility Generating Units | October 24, 2000 | November 7, 2001 | [Insert citation of publication].
* * * * * * *

* * * * *

(d) * * *

(e) * * *

Provision | State effective date | EPA approval date | Federal Register notice | Comments
* * * * * * *
Attainment Demonstration of the 1-hour NAAQS for Ozone for the Birmingham Nonattainment Area | December 1, 2000 | November 7, 2001 | [Insert citation of publication]

[FR Doc. 01-27827 Filed 11-6-01; 8:45 am]

BILLING CODE 6560-50-P